DEPARTMENT OF ENERGY

Bonneville Power Administration

Crystal Springs Hatchery Program Termination Environmental Impact Statement (EIS)

AGENCY: Bonneville Power Administration (BPA), Department of Energy (DOE).

ACTION: Notice of intent to terminate preparation of an Environmental Impact Statement (EIS).

SUMMARY: This notice advises the public that BPA is terminating the preparation of the Crystal Springs Hatchery Program EIS (DOE/EIS-0500) that was announced in the Notice of Intent in the Federal Register on May 27, 2014. This EIS was considering BPA's decision whether to fund the Shoshone-Bannock Tribes of the Fort Hall Reservation of Idaho's (Shoshone-Bannock Tribes) proposal to construct and operate a hatchery for spring/summer Chinook salmon for release in the Salmon River subbasin and for Yellowstone cutthroat trout for release in the Upper Snake River subbasin on the Fort Hall Reservation. The Shoshone-Bannock Tribes are developing an alternate implementation strategy to address site conditions and BPA would consider these proposals in the future.

FOR FURTHER INFORMATION CONTACT: Ted Gresh, Environmental Protection Specialist, Bonneville Power Administration—ECF-4, P.O. Box 3621, Portland, Oregon 97208-3621; toll-free telephone 1-800-282-3713; direct telephone 503-230-5756; or email esgresh@bpa.gov or Jonathan McCloud, Project Manager, Bonneville Power Administration—EWM-4, P.O. Box 3621, Portland, Oregon, 97208-3621; toll-free telephone number 1-800-622-4519; email jmmccloud@bpa.gov. Additional information can be found at the project website: www.bpa.gov/goto/CrystalSprings.

SUPPLEMENTARY INFORMATION: A Notice of Intent was published in the Federal Register on May 27, 2014, (79 FR 30165) to begin preparing an EIS for the Crystal Springs Hatchery Program. BPA solicited public comments pursuant to Section 102 of the National Environmental Policy Act (NEPA) of 1969. A draft EIS was issued May 3, 2017, and BPA initiated a 45-day public comment period. Because of project feasibility issues, the EIS is being terminated in accordance with 40 CFR 1506.6 and 40 CFR 1506.10.

Signed in Portland, Oregon, on November 5, 2019.
Elliot E. Mainzer,
Administrator and Chief Executive Officer.

[FR Doc. 2019-24904 Filed 11-15-19; 8:45 am]

BILLING CODE 6450-01-P